DEPARTMENT OF ENERGY

International Energy Agency Meeting

AGENCY: Department of Energy.

ACTION: Notice of meetings.

SUMMARY: The Industry Advisory Board (IAB) to the International Energy Agency (IEA) will meet on June 29, 2004, at the headquarters of the IEA in Paris, France, in connection with a meeting of the IEA's Standing Group on Emergency Questions. Meetings involving members of the IAB in connection with a meeting of the IEA's Emergency Response Exercise (ERE 3) Design Group, and in connection with an IEA workshop on near-term risks in the oil market, as preparation for ERE 3 in October 2004, will be held at the headquarters of the IEA on June 30, 2004.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 29, 2004, beginning at 8:40 a.m. The purpose of this notice is to permit attendance by representatives of U.S. company members of the IAB at a meeting of the IEA's Standing Group on Emergency Questions (SEQ), which is scheduled to be held at the IEA on June 29, beginning at 9:30 a.m., including a preparatory encounter among company representatives from 8:40 a.m. to 9:15 a.m. The agenda for the preparatory encounter is as follows:

I. Welcome, Review of Agenda, and Introductions

II. Report on Expiration of European Community Exemption for IAB Activities

III. Greek Administration Proposal on Minimum Operating Inventories

IV. Closing and Review of Meetings of Interest to IAB Members

The agenda of the SEQ meeting is under the control of the SEQ. It is expected that the SEQ will adopt the following agenda:

1. Adoption of the Agenda

2. Approval of the Summary Record of the 110th Meeting

3. Program of Work

—Progress Report on Planning of Emergency Response Exercise (ERE) 3

—The SEQ Program of Work for 2005-2006

4. Update on Compliance with IEP Stockholding Commitments

—Reports by Non-Complying Member Countries

5. The Current Oil Market Situation and Emergency Preparedness

—Discussion of Present Oil Market and Emergency Preparedness

6. Report on Current Activities of the IAB

7. Gas Security Issues

—Findings from the IEA Study

8. Policy and Other Developments in Member Countries

—Reporting Member Country Developments to the IEA Secretariat

—United States

—Netherlands

—Hungary

—Czech Republic

9. Emergency Response Activities

—Preliminary Assessment of Economic Impacts of Oil Supply Crises

—The Impact of Oil Prices on the Global Economy

—Proposed Monthly Oil Statistics Addendum on Bilateral Stock Tickets

—Oil Demand Restraint in the Transport Sector: An Analysis of Potential Fuel Savings

10. Activities with Non-Member Countries and International Organizations

—The Status of Oil Security in European Union Accession and Candidate Countries

—Report on the IEA/ASEAN/ASCOPE Workshop on Oil Supply Disruption Management Issues, Cambodia

—Report on the International Energy Forum Ministerial meeting, Amsterdam

11. Emergency Response Reviews of IEA Member Countries

—Emergency Response Review of Portugal

—Emergency Response Review of Finland

12. Other Documents for Information

—Emergency Reserve Situation of IEA Member Countries on April 1, 2004

—Emergency Reserve Situation of IEA Candidate Countries on April 1, 2004

—Monthly Oil Statistics: March 2004

—Base Period Final Consumption: 2Q2003-1Q2004

—IEA Dispute Resolution Center: Panel of Arbitrators

—Update of Emergency Contacts List

13. Other Business

—Dates of Next Meetings:

—June 30, 2004: Workshop on Near-Term Risk Assessment in the Oil Market (morning session)

—June 30, 2004: ERE 3 Design Group Meeting (afternoon session)

—October 25-26, 2004: ERE 3 Training Session for New Participants and Non-Member Countries

—October 27-28, 2004: ERE 3

—October 29, 2004: 112th Meeting of the SEQ

—Changes in the EPPD Secretariat and Delegations

A meeting involving members of the IAB in connection with an IEA workshop on the near-term risks in the oil market, as preparation for the IEA's ERE 3 in October 2004, will be held on June 30, 2004, at the headquarters of the IEA from approximately 9:30 a.m. to 12:30 p.m. The purpose of this notice is to permit IAB members to attend the workshop.

The agenda for the workshop is under the control of the SEQ. It is expected that the SEQ will adopt the following agenda:

1. Introduction by the Chair

2. Introduction by OME: Background and Objectives of IEA Objectives of Emergency Response Exercises

3. Presentation of Objectives of the ERE 3 Simulation Exercises

4. Near-Term Risks in the Oil Market, an Economic View of Possible Scenarios and Their Impact

5. Near-Term Risks in the Oil Market, a Geopolitical View

6. Brainstorming Discussion to Identify Key Elements on Scenario-Building for the ERE 3 Simulation Exercises

7. Closing Remarks by the Chair

A meeting involving members of the IAB in connection with a meeting of the IEA's ERE 3 Design Group will be held on June 30, 2004, at the headquarters of the IEA from approximately 2 p.m. to 4 p.m. The purpose of this meeting is to assist in planning an oil supply disruption simulation exercise to be conducted by the IEA's SEQ between October 25-28, 2004.

The agenda for the meeting is under the control of the SEQ. It is expected that the SEQ will adopt the following agenda:

1. Discussion led by the Chairman of the SEQ

Points for discussion include

—Approve the ERE 3 October 25 training agenda for distribution to IEA member and candidate countries as well as IAB/reporting companies

—Approve the ERE 3 October 26 disruption simulation exercise agenda for new SEQ participants and selected non-member countries for distribution to IEA member and candidate countries as well as IAB/Reporting Companies

—Approve goals and objectives for scenario-building for the simulation exercise

—Approve agenda for the ERE 3 October 27-28 SEQ disruption simulation exercise for distribution to the SEQ and reporting companies for distribution to IEA member and candidate countries as well as IAB/reporting companies

—Discussion of goals and objectives for the December 7 Governing Board disruption simulation exercise

—Discussion on operational issues for the disruption simulation exercise including facilitation and team leaders for the breakout groups

—Discussion of participation and role of outside actors in the simulation exercises (media and traders)

2. Chairman's Conclusion

As provided in section 252(c)(1)(A)(ii) of the Energy Policy and Conservation Act (42 U.S.C. 6272(c)(1)(A)(ii)), the meetings of the IAB are open to representatives of members of the IAB and their counsel; representatives of members of the IEA's Standing Group on Emergency Questions (SEQ); representatives of the Departments of Energy, Justice, and State, the Federal Trade Commission, the General Accounting Office, Committees of Congress, the IEA, and the European Commission; and invitees of the IAB, the SEQ, or the IEA.

Issued in Washington, DC, June 16 , 2004.
Diana D. Clark,
Acting Assistant General Counsel for International and National Security Programs.

[FR Doc. 04-13939 Filed 6-18-04; 8:45 am]

BILLING CODE 6460-50-P